GENERAL SERVICES ADMINISTRATION

48 CFR Chapter V

[Notice-MV-2017-01; Docket 2017-0002; Sequence No. 6]

Evaluation of Existing Acquisition Regulations; Extension of Comment Period

AGENCY: General Services Administration (GSA).

ACTION: Request for comments; extension of comment period.

SUMMARY: GSA issued a request on May 30, 2017 seeking input by July 31, 2017. The comment period is extended, until August 14, 2017, in order to provide additional time for interested parties to review and submit comments on the request.

DATES: The comment period for the document published in the Federal Register at 82 FR 24653, on May 30, 2017, is extended for 14 days.

Comment Date: Interested parties should submit comments to the Regulatory Secretariat at one of the addresses shown below on or before August 14, 2017.

ADDRESSES: Submit comments identified by “Notice-MV-2017-01, Evaluation of Existing Acquisition Regulations” by any of the following methods:

• Regulations.gov: http://www.regulations.gov. Submit comments via the Federal eRulemaking portal by searching for Notice-MV-2017-01, Evaluation of Existing Acquisition Regulations. Select the link “Comment Now” that corresponds with “Notice-MV-2017-01, Evaluation of Existing Acquisition Regulations.” Follow the instructions provided on the screen. Please include your name, company name (if any), and “Notice-MV-2017-01, Evaluation of Existing Acquisition Regulations” on your attached document.

• Google form found at: https://goo.gl/forms/GahAhb2aT4MVlREo1.

If you are commenting via the google form, please note that each regulation or part that you are identifying for repeal, replacement or modification should be entered into the form separately. This will assist GSA in its tracking and analysis of the comments received.

• Mail: General Services Administration, Regulatory Secretariat Division (MVCB), 1800 F Street NW., Washington, DC 20405.

FOR FURTHER INFORMATION CONTACT: Ms. Francine Serafin, Office of Government-wide Policy, 202-705-8659, or via email at francine.serafin@gsa.gov.

SUPPLEMENTARY INFORMATION: GSA published a request in the Federal Register at 82 FR 24653, on May 30, 2017, seeking input on acquisition regulations, policies, standards, business practices and guidance issued by GSA. The comment period is extended to provide additional time for interested parties to the review and submit comments on the request.

Dated: July 18, 2017.
Michael Downing,
Regulatory Reform Officer, Office of the Administrator.

[FR Doc. 2017-15458 Filed 7-28-17; 8:45 am]

BILLING CODE 6820-61-P